DEPARTMENT OF TRANSPORTATION

Research & Innovative Technology Administration

[Docket: OST—2007—26835]

Agency Information Collection; Activity Under OMB Review; Report of Passengers Denied Confirmed Space—BTS Form 251

AGENCY: Research & Innovative Technology Administration (RITA), Bureau of Transportation Statistics (BTS), DOT.

ACTION: Notice.

SUMMARY: In compliance with the Paperwork Reduction Act of 1995, Public Law 104-13, the Bureau of Transportation Statistics invites the general public, industry and other governmental parties to comment on the continuing need for and usefulness of BTS collecting reports on the number of passengers holding confirmed reservations that voluntarily or involuntarily give up their seats when the airline oversells the flight. Comments are requested concerning whether (a) the collection is still needed by the Department of Transportation; (b) BTS accurately estimated the reporting burden; (c) there are other ways to enhance the quality, utility and clarity of the information collected; and (d) there are ways to minimize reporting burden, including the use of automated collection techniques or other forms of information technology.

DATES: Written comments should be submitted by March 20, 2007.

FOR FURTHER INFORMATION CONTACT: Bernie Stankus, Office of Airline Information, RTS-42, Room 4125, RITA, BTS, 400 Seventh Street, SW., Washington, DC 20590-0001, Telephone Number (202) 366-4387, Fax Number (202) 366-3383 or E-Mail bernard.stankus@dot.gov.

Comments: Comments should identify the associated OMB approval # 2138-0018 and Docket OST—2007-26835. Persons wishing the Department to acknowledge receipt of their comments must submit with those comments a self-addressed stamped postcard on which the following statement is made: Comments on OMB # 2138-0018, Docket OST—26835. The postcard will be date/time stamped and returned.

SUPPLEMENTARY INFORMATION:

OMB Approval No. 2138-0018

Title: Report of Passengers Denied Confirmed Space.

Form No: BTS Form 251.

Type of Review: Extension of a currently approved collection.

Respondents: Large certificated and foreign air carrier.

Number of Respondents: 100.

Number of Responses: 400.

Total Annual Burden: 1,670 hours.

Needs and Uses: BTS Form 251 is a one-page report on the number of passengers denied boarding (voluntarily and involuntarily), whether the bumped passengers were provided alternate transportation and/or compensation, and the amount of the payment. U.S. and foreign air carriers that operate scheduled passenger service with large aircraft (over 60-seats) must submit Form 251. In addition, carriers report data from inbound international flights because the protections of 14 CFR part 250 Oversales do not apply to these flights. The report allows the Department to monitor the effectiveness of its oversales rule and take enforcement action when necessary. While the involuntarily denied-boarding rate has decrease from 4.38 per 10,000 passengers in 1980 to 1.04 for the nine months ended September 2006, the rate is up from the 0.89 attained for the nine months ended September 2005. The publishing of the carriers' individual denied boarding rates has negated the need for more intrusive regulation. The rate of denied boarding can be examined as a continuing fitness factor. This rate provides an insight into a carrier's customer service policy and its compliance disposition. A rapid sustained increase in the rate of denied boarding often in an indicator of operational difficulty. Because the rate of denied boarding is released quarterly, travelers and travel agents can select carriers with low bumping incidents when booking a trip. This information is available in the Air Travel Consumer Report at: http://airconsumer.ost.dot.gov/reports/index.htm. The Air Travel Consumer Report is also sent to newspapers, magazines, and trade journals. Without Form 251, determining the effectiveness of the Department's oversales rule would be impossible.

The Confidential Information Protection and Statistical Efficiency Act of 2002 (44 U.S.C. 3501 note), requires a statistical agency to clearly identify information it collects for non-statistical purposes. BTS hereby notifies the respondents and the public that BTS uses the information it collects under this OMB approval for non-statistical purposes including, but not limited to, publication of both Respondent's identity and its data, submission of the information to agencies outside BTS for review, analysis and possible use in regulatory and other administrative matters.

Issued in Washington, DC, on January 12, 2007.
Donald W. Bright,
Assistant Director, Airline Information, Bureau of Transportation Statistics.

[FR Doc. E7-711 Filed 1-18-07; 8:45 am]

BILLING CODE 4910-FE-P